DEPARTMENT OF DEFENSE

Department of the Navy

Notice of Availability of Invention for Licensing; Government Owned Inventions

AGENCY: Department of the Navy, DOD.

ACTION: Notice.

SUMMARY: The inventions listed below are assigned to the United States Government as represented by the Secretary of the Navy and are available for licensing by the Department of the Navy.

The following patents are available for licensing: U.S. Patent No. 6,038,344: INTELLIGENT HYPERSENSOR PROCESSING SYSTEM (IHPS), (Navy Case No. 77,409). //U.S. Patent No. 6,167,156: COMPRESSION OF HYPERDATA WITH ORASIS MULTISEGMENT PATTERN SETS (CHOMPS), (Navy Case No. 78,739).//U.S. Patent No. 6,266,704: ONION ROUTING NETWORK FOR SECURELY MOVING DATA THROUGH COMMUNICATION NETWORKS, (Navy Case No. 78,415).//

ADDRESSES: Requests for copies of the patents cited should be directed to the Naval Research Laboratory, Code 1008.2, 4555 Overlook Avenue, SW., Washington, DC 20375-5320, and must include the Navy Case number.

FOR FURTHER INFORMATION CONTACT: Catherine M. Cotell, Ph.D., Head, Technology Transfer Office, NRL Code 1004, 4555 Overlook Avenue, SW., Washington, DC 20375-5320, telephone (202) 767-7230.

Authority: 35 U.S.C. 207, 37 CFR part 404.

Dated: November 26, 2001.
T.J. Welsh,
Lieutenant Commander, Judge Advocate General's Corps, U.S. Navy, Federal Register Liaison Officer.

[FR Doc. 02-1556 Filed 1-22-02; 8:45 am]

BILLING CODE 3810-FF-P